SECURITIES AND EXCHANGE COMMISSION

[File No. 500-1]

In the Matter of: Sabratek Corp., SAN Holdings, Inc., SBD International, Inc. (n/k/a Solargy Systems, Inc.), Scantek Medical, Inc., SciLabs Holdings, Inc., The SCO Group, Inc., Secure Technologies Group, Inc., Secured Digital Applications, Inc., Senco Sensors, Inc., Sentex Sensing Technology, Inc., Serefex Corp., SinoFresh HealthCare, Inc., Sonoma College, Inc., and Source Petroleum Inc.; Order of Suspension of Trading

April 5, 2011.

It appears to the Securities and Exchange Commission that there is a lack of current and accurate information concerning the securities of Sabratek Corp. because it has not filed any periodic reports since the period ended March 31, 1999.

It appears to the Securities and Exchange Commission that there is a lack of current and accurate information concerning the securities of SAN Holdings, Inc. because it has not filed any periodic reports since the period ended June 30, 2007.

It appears to the Securities and Exchange Commission that there is a lack of current and accurate information concerning the securities of SBD International, Inc. (n/k/a Solargy Systems, Inc.) because it has not filed any periodic reports since the period ended September 30, 2006.

It appears to the Securities and Exchange Commission that there is a lack of current and accurate information concerning the securities of Scantek Medical, Inc. because it has not filed any periodic reports since the period ended March 31, 2003.

It appears to the Securities and Exchange Commission that there is a lack of current and accurate information concerning the securities of SciLabs Holdings, Inc. because it has not filed any periodic reports since the period ended March 31, 2002.

It appears to the Securities and Exchange Commission that there is a lack of current and accurate information concerning the securities of The SCO Group, Inc. because it has not filed any periodic reports since the period ended January 31, 2009.

It appears to the Securities and Exchange Commission that there is a lack of current and accurate information concerning the securities of Secure Technologies Group, Inc. because it has not filed any periodic reports since the period ended December 31, 2004.

It appears to the Securities and Exchange Commission that there is a lack of current and accurate information concerning the securities of Secured Digital Applications, Inc. because it has not filed any periodic reports since the period ended September 30, 2008.

It appears to the Securities and Exchange Commission that there is a lack of current and accurate information concerning the securities of Senco Sensors, Inc. because it has not filed any periodic reports since the period ended November 30, 1999.

It appears to the Securities and Exchange Commission that there is a lack of current and accurate information concerning the securities of Sentex Sensing Technology, Inc. because it has not filed any periodic reports since the period ended August 31, 2007.

It appears to the Securities and Exchange Commission that there is a lack of current and accurate information concerning the securities of Serefex Corp. because it has not filed any periodic reports since the period ended February 28, 2009.

It appears to the Securities and Exchange Commission that there is a lack of current and accurate information concerning the securities of SinoFresh HealthCare, Inc. because it has not filed any periodic reports since the period ended September 30, 2008.

It appears to the Securities and Exchange Commission that there is a lack of current and accurate information concerning the securities of Sonoma College, Inc. because it has not filed any periodic reports since the period ended September 30, 2006.

It appears to the Securities and Exchange Commission that there is a lack of current and accurate information concerning the securities of Source Petroleum Inc. because it has not filed any periodic reports since the period ended June 30, 2007.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 5, 2011, through 11:59 p.m. EDT on April 18, 2011.

By the Commission.
Elizabeth M. Murphy,
Secretary.

[FR Doc. 2011-8390 Filed 4-5-11; 11:15 am]

BILLING CODE 8011-01-P